DEPARTMENT OF JUSTICE

Notice of Lodging of Consent Decree Under the Comprehensive Environmental Response, Compensation and Liability Act (“CERCLA”)

Pursuant to Section 122(d)(2) of CERCLA, 42 U.S.C. 9622(d)(2), notice is hereby given that on August 17, 2005, a proposed Consent Decree in United Stated v. Carrier Corporation, CV 05-6022 ABC (RCx) (C.D. Cal.), was lodged with the United States District Court for the Central District of California.

The Consent Decree resolves claims against Carrier Corporation (“Carrier”) brought by the United States on behalf of the Environmental Protection Agency (“EPA”) under Sections 106 and 107 of the Comprehensive Environmental Response, Compensation, and Liability Act (“CERCLA”), 42 U.S.C. 9606 and 9607, and Section 7003 of the Resource Conservation and Recovery Act, as amended (“RCRA”), 42 U.S.C. 6973, for the performance of response actions and for the reimbursement of response costs incurred and to be incurred by EPA in connection with the release and threatened release of hazardous substances at the Puente Valley Operable Unit of the San Gabriel Valley Superfund Site, Area 4 (“Site”) in Los Angeles County, California.

Under the proposed Consent Decree, Carrier and its parent corporation, United Technologies Corporation (together, “Settling Defendants”), will perform a portion of the interim remedy for the Site. Specifically, Settling Defendants will construct a shallow groundwater zone remediation system and operate that system for eight years once the system is operational and functional. In addition, Settling Defendants will reimburse the United States a portion of past response costs and pay future oversight costs incurred by EPA related to the work. Additionally, the Consent Decree requires payment of a civil penalty for noncompliance with an EPA cleanup order issued to Carrier, performance of a supplemental environmental project in further mitigation of that penalty, and monitoring of upgradient contamination for a period of eight years.

The Department of Justice will receive for a period of thirty (30) days from the date of this publication comments relating to the Consent Decree. Comments should be addressed to the Assistant Attorney General, Environment and Natural Resources Division, P.O. Box 7611, U.S. Department of Justice, Washington, DC 20044-7611, with a copy to Matthew A. Fogelson, Trial Attorney, U.S. Department of Justice, Environment and Natural Resources Division, Environmental Enforcement Section, 301 Howard Street, Suite 1050, San Francisco, CA 94105, and should refer to United States v. Carrier Corporation, CV 05-6022 ABC (RCx), DOJ Ref. #90-11-2-354/15. Commenters may request an opportunity for a public meeting in the affected area, in accordance with Section 7003(d) of RCRA, 42 U.S.C. 6973(d).

The Consent Decree may be examined at the Office of the United States Attorney, Civil Division, c/o AUSA Suzette Clover, 300 North Los Angeles Street, Room 7516, Los Angeles, California 90012. During the public comment period, the Consent Decree may be examined on the Department of Justice Web site at http://www.usdoj.gov/enrd/open.html. A copy of the Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy, please refer to United States v. Carrier Corporation, CV 05-6022 ABC (RCx), DOJ Ref. #90-11-2-354/15, and enclose a check in the amount of $77.50 (25 cents per page reproduction cost) payable to the U.S. Treasury. To receive the Consent Decree without the Appendices, pay $19.75.

Ellen Mahan,
Assistant Section Chief, Environmental Enforcement Section, Environment & Natural Resources Division.

[FR Doc. 05-17375 Filed 8-31-05; 8:45 am]

BILLING CODE 4410-15-M